DEPARTMENT OF COMMERCE

National Oceanic and Atmospheric Administration

RIN 0648-XC395

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a week long working meeting, which is open to the public. The GMT will also meet with a subgroup of the Council's Scientific and Statistical Committee (SSC).

DATES: The GMT meeting will be held Monday, January 14, 2013 from 1 p.m. until business for the day is completed. The GMT meeting will reconvene Tuesday, January 15 through Friday, January 18 from 8:30 a.m. until business for each day has been completed. The joint meeting of the SSC subgroup and the GMT will occur on January 17, 2013.

ADDRESSES: The meetings will be held at the Hotel Deca, Governor's Room, 4507 Brooklyn Avenue NE., Seattle, WA; telephone: (206) 634-2000.

Council address: Pacific Fishery Management Council, 7700 NE Ambassador Place, Suite 101, Portland, OR 97220-1384.

FOR FURTHER INFORMATION CONTACT: Ms. Kelly Ames or Mr. John DeVore, Staff Officers, Pacific Council; telephone: (503) 820-2280.

SUPPLEMENTARY INFORMATION: The primary purpose of the GMT working meeting is to prepare for the 2013 Council meetings, including the upcoming harvest specifications and management measures cycle. Specific agenda topics include the use of descending devices to recompress rockfish discarded in west coast recreational fisheries and the associated revised mortality rates; changes to the harvest specifications and management measures process under the proposed Amendment 24 to the groundfish Fishery Management Plan; evaluation of and proposed changes to the groundfish stock complexes; and a review of impact projection models. The GMT may also address other assignments relating to groundfish management. No management actions will be decided by the GMT. The GMT's task will be to develop recommendations for consideration by the Council at its meetings in 2013.

Although non-emergency issues not contained in the meeting agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

This meeting is physically accessible to people with disabilities. Requests for sign

language interpretation or other auxiliary aids should be directed to Mr. Kris Kleinschmidt at (503) 820-2280 at least 5 days prior to the meeting date.

Dated: December 11, 2012.
Tracey L. Thompson,
Acting Deputy Director, Office of Sustainable Fisheries, National Marine Fisheries Service.

[FR Doc. 2012-30208 Filed 12-13-12; 8:45 am]

BILLING CODE 3510-22-P